DEPARTMENT OF HEALTH AND HUMAN SERVICES

[Document Identifier: OS-0990-0001]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before August 28, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Sherrette Funn, Sherrette.Funn@hhs.gov or (202) 264-0041, or PRA@HHS.GOV. When submitting comments or requesting information, please include the document identifier 0990-0001-30D and project title for reference.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Application for waiver of the two-year foreign residence requirement of the Exchange Visitor Program.

Type of Collection: Reinstatement with change.

OMB No. 0990-0001.

Abstract: The Department of Health and Human Services, Office of Global Health Affairs program deals with both research and clinical care waivers. Applicant institutions apply to this Department to request a waiver on behalf of research scientists or foreign medical graduates to work as clinicians in HHS designated health shortage areas doing primary care in medical facilities. The instructions request a copy of Form G-28 from applicant institutions represented by legal counsel outside of the applying institution. United States Department of Justice Form G-28 ascertains that legal counsel represents both the applicant organization and the exchange visitor. One program change has been made: the category of Hospitalist has been added to eligible applicants in the Clinical Care waivers which was 35 respondents increase by 415 to 450 respondents and the burden was 350 increased by 4,150 to 4,500. The total burden was 800 hours; it has increased by 4,150 hours a total of 4,950.

Need and Proposed Use of the Information: Required as part of the application process to collect basic information such as name, address, family status, sponsor and current visa information.

Likely Respondents: Research scientists and research facilities.

Annualized Burden Hour Table
Type of respondent | Form name | Number of respondents | Number responses per respondent | Average burden per response (in hours) | Total burden hours
Application Waiver/Supplemental A Research | HHS 426 | 45 | 1 | 10 | 450
Application Waiver/Supplemental B Clinical Care | HHS 426 | 450 | 1 | 10 | 4,500
Total |  |  |  |  | 4,950

Sherrette A. Funn,
Paperwork Reduction Act Reports Clearance Officer, Office of the Secretary.

[FR Doc. 2023-15892 Filed 7-26-23; 8:45 am]

BILLING CODE 4150-38-P